DEPARTMENT OF ENERGY

Federal Energy Regulatory Commission

[Project No. 405-097]

Exelon Generation Company, LLC; Notice of Dispute Resolution Process Schedule, Panel Meeting and Technical Conference

July 21, 2010.

On February 25, 2010, the state of Maryland Department of the Environment (Maryland DOE) filed a Notice to initiate formal study dispute resolution process pursuant to 18 CFR 5.14. Maryland DOE disputed the Commission's study determinations on the following studies: (1) Seasonal and diurnal water quality in Conowingo Pond and below Conowingo dam (study 3.1); (2) downstream fish passage effectiveness study (study 3.2); (3) hydrologic study of the lower Susquehanna River (study 3.11); and (4) characterization of downstream aquatic communities (study 3.18).

On March 5, 2010, Commission staff denied Maryland DOE's request for formal study dispute resolution. In response, Maryland DOE filed a request for rehearing on the matter on March 19, 2010, and on May 20, 2010, the Commission granted Maryland DOE formal dispute resolution pending filing of an explanation of how the requested studies apply to its consideration of Clean Water Act section 401 certification. Maryland DOE filed its explanation on June 3, 2010, and requested that two panels be established, each with a different representative for Maryland DOE. On June 18, 2010, Commission staff directed Maryland DOE to designate a single panelist as its representative for all disputed studies. Maryland DOE designated Mr. Jim Uphoff as its single panelist on June 23, 2010.

The schedule for the dispute resolution process is as follows:

Pre-filing milestone | Date
Notice of Dispute Resolution Process Schedule, Panel Meeting, and Technical Conference | Weds, 7/21/2010.
Dispute Resolution Panel Convenes | Tues, 8/10/2010.
Applicant Comments on Study Dispute | Mon, 8/16/2010.
Dispute Resolution Panel Technical Conference | Tues, 8/31/2010.
Dispute Resolution Panel Findings | Thurs, 9/9/2010.
Director's Study Dispute Determination | Weds, 9/29/2010.

As noted above, the Panel will hold a technical conference on the disputed studies on Tuesday, August 31, 2010. Details will be supplied in a future notice.

For more information, please contact Stephen Bowler, the Dispute Panel Chair, at stephen.bowler@ferc.gov or 202-502-6861.

Kimberly D. Bose,
Secretary.

[FR Doc. 2010-18432 Filed 7-27-10; 8:45 am]

BILLING CODE 6717-01-P